DEPARTMENT OF THE INTERIOR

Fish and Wildlife Service

Information Collection Submitted to the Office of Management and Budget (OMB) for Extension Approval Under the Paperwork Reduction Act (PRA)

ACTION: Notice.

SUMMARY: The Service submitted the forms for the collection of information listed below to OMB for renewal approval under the Paperwork Reduction Act. Copies of the forms and related material may be obtained by contacting the Service Information Collection Clearance Officer at the address listed below.

DATES: Comments must be submitted on or before September 14, 2000.

ADDRESSES: Interested parties should send comments and suggestions on the requirement directly to the Office of Information and Regulatory Affairs; Office of Management and Budget; Attention: Interior Desk Officer; 725 17th Street, NW., Washington, DC 20503; and they should send a copy of the comments to Rebecca A. Mullin, Information Collection Clearance Officer, U.S. Fish and Wildlife Service, 4401 North Fairfax Drive, Suite 222, Arlington, VA 22203, (703) 358-2278 or Rebecca_Mullin@fws.gov E-mail.

FOR FURTHER INFORMATION CONTACT: Jack Hicks, (703) 358-1851, fax (703) 358-1837, or Jack_Hicks@fws.gov E-mail.

SUPPLEMENTARY INFORMATION: The Service invites comments on:

(1) Whether the collection of information is necessary for the proper performance of the functions of the agency, including whether the information will have practical utility;

(2) Ways to enhance the quality, utility, and clarity of the information being collected;

(3) The accuracy of the agency's estimate of the time burden of the collection of information; and

(4) Ways to reduce the time burden of the collection of information on respondents.

Title: Part I—Certification and Part II—Summary of Hunting and Sport Fishing Licenses Issued

OMB Approval Number: 1018-0007 (covers both forms)

Service Form Numbers: 3-154a Part I—Certification, and 3-154b Part II—Summary of Hunting and Sport Fishing Licenses Issued

The U.S. Fish and Wildlife Service has submitted to OMB a request to renew its approval of this information collection for the Federal Aid program. The Service is requesting a 3-year term of approval for this information collection. A previous 60-day notice on this information collection requirement was published in the Federal Register on May 1, 2000 (65 FR 25359) inviting public comment. No comments on the previous notice were received as of July 24, 2000. This notice provides an additional 30 days in which to comment on the following information.

An agency may not conduct or sponsor, and person is not required to respond to, a collection of information unless it displays a currently valid OMB control number. The OMB control number for this collection of information is 1018-0007.

Description and Use: The Federal Aid in Wildlife and Sport Fish Restoration Acts require State agencies that receive grants under these Acts to certify license sales. The U.S. Fish and Wildlife Service uses these forms to certify number and amount of sales as required under the Acts. The information is then used in a formula described in the Acts to apportion grant funds to each State or territory.

Frequency of Collection: Generally annually.

Description of Respondents: State, Territorial (the Commonwealth of Puerto Rico, the District of Columbia, the Commonwealth of the Northern Mariana Islands, Guam, the Virgin Islands, and American Samoa), local governments, and certain others receiving grant funds.

Completion Time and Annual Response Estimate:

Form name | Completion time per form (in hrs) | Annual response | Annual burden (in hrs)
Certification Part 1 | ½ | 56 forms | 28
Certification Part 2 | ½ | 56 forms | 28
Totals |  | 112 forms | 56

BILLING CODE 4310-55-M

Dated: July 25, 2000.
Rebecca Mullin,
Information Collection Officer—Fish and Wildlife Service.

[FR Doc. 00-20619 Filed 8-14-00; 8:45 am]

BILLING CODE 4310-55-C